DEPARTMENT OF LABOR

Employment and Training Administration

[TA-W-50,314]

Electroglas, Inc. Including Leased Workers of Advanced Technical Resources San Jose, CA; Notice of Revised Determination on Reconsideration—Business Confidential

By application of March 25, 2003, a petitioner requested administrative reconsideration regarding the Department's Negative Determination Regarding Eligibility to Apply for Worker Adjustment Assistance, applicable to the workers of the subject firm.

The initial investigation resulted in a negative determination issued on January 31, 2003, based on the finding that imports of wafer probers did not contribute importantly to worker separations at the San Jose plant. The denial notice was published in the Federal Register on February 24, 2003 (68 FR 8619).

To support the request for reconsideration, the petitioner supplied additional information to supplement that which was gathered during the initial investigation. Upon further review and contact with the company, it was revealed that the company increased their imports of wafer probers, contributing significantly to the layoffs during the relevant period.

Conclusion

After careful review of the additional facts obtained on reconsideration, I conclude that increased imports of articles like or directly competitive with those produced at Electroglas, Inc., San Jose, California, contributed importantly to the declines in sales or production and to the total or partial separation of workers at the subject firm. In accordance with the provisions of the Act, I make the following certification:

All workers of Electroglas, Inc., including leased workers of Advanced Technical Resources, San Jose, California, who became totally or partially separated from employment on or after December 9, 2001 through two years from the date of this certification, are eligible to apply for adjustment assistance under Section 223 of the Trade Act of 1974.

Signed in Washington, DC this 14th day of July 2003.
Elliott S. Kushner,
Certifying Officer, Division of Trade Adjustment Assistance.

[FR Doc. 03-19854 Filed 8-4-03; 8:45 am]

BILLING CODE 4510-30-P